DEPARTMENT OF THE INTERIOR

Bureau of Land Management

[LLWY922000-L13200000-EL0000, WYW180763]

Notice of Invitation To Participate; Coal Exploration License Application WYW180763, Wyoming

AGENCY: Bureau of Land Management, Interior.

ACTION: Notice.

SUMMARY: Pursuant to the Mineral Leasing Act of 1920, as amended by the Federal Coal Leasing Amendments Act of 1976, and to Bureau of Land Management (BLM) regulations, all interested parties are hereby invited to participate with Cordero Mining LLC, on a pro rata cost-sharing basis, in its program for the exploration of coal deposits owned by the United States in Campbell County, Wyoming.

DATES: This notice of invitation has been published in the Gillette News-Record once each week for 2 consecutive weeks beginning the week of May 14, 2012, and in the Federal Register. Any party electing to participate in this exploration program must send written notice to both the BLM and Cordero Mining LLC, as provided in the ADDRESSES section below, no later than 30 days after publication of this invitation in the Federal Register.

ADDRESSES: Copies of the exploration plan are available for review during normal business hours in the following offices (case file number WYW180763): BLM, Wyoming State Office, 5353 Yellowstone Road, P.O. Box 1828, Cheyenne, Wyoming 82003; and, BLM, High Plains District Office, 2987 Prospector Drive, Casper, Wyoming 82604. The written notice should be sent to the following addresses: Cordero Mining LLC, c/o Cloud Peak Energy, Attn: Mark Arambel, Caller Box 3009, Gillette, Wyoming 82717, and BLM, Wyoming State Office, Branch of Solid Minerals, Attn: Mavis Love, P.O. Box 1828, Cheyenne, Wyoming 82003.

FOR FURTHER INFORMATION CONTACT: Mavis Love, Land Law Examiner, at 307-775-6258. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Cordero Mining LLC, has applied to the BLM for a coal exploration license on public land adjacent to its Cordero Rojo Coal Mine. The purpose of the exploration program is to obtain structural and quality information about the coal. The BLM regulations at 43 CFR part 3410 require the publication of an invitation to participate in the coal exploration in the Federal Register. The Federal coal resources included in the exploration license application are located in the following described lands in Wyoming:

6th Principal Meridian

T. 46 N., R. 71 W.,

Sec. 9, lots 6 through 8 inclusive;

Sec. 10, lots 7 through 10 inclusive;

Sec. 11, lots 13 through 16 inclusive;

Sec. 14, lots 1 through 6 inclusive and lots 11 through 14 inclusive;

Sec. 15, lots 1 through 16 inclusive;

T. 47 N., R. 71 W.,

Sec. 7, lots 6 through 11 inclusive and lots 14 through 19 inclusive;

Sec. 17, lots 1 through 15 inclusive and SW¼NW¼;

Sec. 18, lots 5, 6, 11, 12;

Sec. 20, lot 1;

Sec. 21, lot 4;

T. 47 N., R. 72 W.,

Sec. 1, lots 9 through 13 inclusive and NW¼SE¼; and

Sec. 12, lots 1 through 16 inclusive.

Containing 3,747.91 acres, more or less, in Campbell County.

The proposed exploration program is fully described in, and will be conducted pursuant to, an exploration plan to be approved by the BLM.

Authority: 43 CFR 3410.2-1(c)(1).

Donald A. Simpson,
State Director.

[FR Doc. 2012-13337 Filed 5-31-12; 8:45 am]

BILLING CODE 4310-22-P